DEPARTMENT OF TRANSPORTATION

Federal Railroad Administration

[Docket Number FRA-2005-21613]

Petition for Waiver of Compliance

In accordance with part 211 of Title 49 of the Code of Federal Regulations (CFR), this document provides the public notice that by a document dated January 21, 2016, the Association of American Railroads (AAR) has petitioned the Federal Railroad Administration (FRA) for renewal of a waiver of compliance from certain provisions of the Federal railroad safety regulations contained at 49 CFR part 229—Railroad Locomotive Safety Standards. FRA assigned the petition Docket Number FRA-2005-21613.

This regulatory relief was initially granted by FRA in a letter dated December 2, 2005. This letter, along with subsequent modifications and renewals, established a program to perform field investigations to determine new limits for the air brake system clean, repair, and test requirements applicable to electronic air brake systems manufactured by New York Air Brake (NYAB) and Wabtec Railway Electronics (Wabtec). At the time, those requirements were contained in 49 CFR 229.27 and 229.29, which have since been reorganized and updated in 229.29 as level 2 and level 3 air brake system maintenance. The program required that each air brake system be periodically evaluated by a joint committee involving a railroad, the air brake manufacturer, labor organizations (both operating and maintenance crafts) and FRA representatives. Several joint committees, with extensive participation from each of the above mentioned groups, were formed on CSX Transportation (CSX), BNSF Railway (BNSF), and Union Pacific Railroad (UP). All of the air brake systems that were studied were endorsed by consensus of the participating groups for varying extensions to the clean, repair, and test intervals given in 49 CFR 229.29. All of the committees have concluded their investigations and none are currently meeting.

As provided for in the waiver, relief was also extended to certain other AAR member railroads which applied for inclusion and provided a statement from the air brake manufacturer attesting to the similarity of their air brake systems to the ones tested.

Based on the similarity of design documented by the air brake manufacturers and performance demonstrated by tests and teardowns performed on various AAR member railroads, AAR is requesting a unified extension of the waiver applicable to all member railroads. AAR also requests that this waiver extension include all of the NYAB and Wabtec Air Brake systems that were studied by the joint committees. The air brake systems, conditions, and restrictions are requested to be as given in approval letters to Amtrak (June 19, 2014), CSX (August 14, 2015), and a joint letter to CSX and UP (October 15, 2015). A summary of the requested intervals and brake systems is given in the following table:

Model | Inspection interval (years) | Conditions | Notes
New York Air Brake CCB2, CCB26 | 9 | Non-fragmented COT&S | If equipped with BPCP manufactured March 2013 or later.
New York Air Brake CCB2, CCB26 | 7 | Non-fragmented COT&S | If not equipped with BPCP manufactured March 2013 or later.
New York Air Brake CCB2, CCB26 |  | Fragmented COT&S
+ 16 Control Portion | 9 | Fragmented COT&S
+ Brake Pipe Control Portion | 10 | Fragmented COT&S | If BPCP manufactured March 2013 or later.
+ Brake Pipe Control Portion | 7 | Fragmented COT&S | If BPCP not manufactured March 2013 or later.
+ All other portions | 10 | Fragmented COT&S
New York Air Brake CCB1 | 6.5 | Non-fragmented COT&S
New York Air Brake CCB1 |  | Fragmented COT&S
+ 20 Portion | 6.5 | Fragmented COT&S
+ All other portions | 8.5 | Fragmented COT&S
WABTEC Epic 3101 & Epic 3102 w/o D2 | 8
WABTEC FastBrake | 10

AAR also submitted copies of FRA decision letters documenting the intervals above and giving complete conditions as determined by FRA based on the consensus reached in the various joint railroad, manufacturer, labor and FRA waiver committees. These letters are available online at www.regulations.gov under Docket Number FRA-2005-21613; item numbers -0061, -0073, and -0076.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 11, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-04046 Filed 2-24-16; 8:45 am]

BILLING CODE 4910-06-P